ENVIRONMENTAL PROTECTION AGENCY

[FRL-10008-66-OA]

Notification of Public Meetings of the Science Advisory Board; COVID-19 Review Panel

AGENCY: Environmental Protection Agency (EPA).

ACTION: Notice.

SUMMARY: The Environmental Protection Agency (EPA) Science Advisory Board (SAB) Staff Office announces its intent to convene a panel of experts drawn from the Chartered Science Advisory Board, the SAB Chemical Assessment Advisory Committee (CAAC), and the SAB Drinking Water Committee (DWC) to provide rapid advice on scientific and technical issues related to the COVID-19 Pandemic and opportunities for current and future EPA research activities that might enhance and inform EPA's current and any future responses to SARS-CoV-2. The Staff Office announces two public meetings: (1) A teleconference of the SAB COVID-19 Review Panel to conduct a review of EPA's research activities in response to SARS CoV-2 and (2) a teleconference of the Chartered SAB to review the draft report of the SAB COVID-19 Review Panel.

DATES: The public teleconference of the SAB COVID-19 Review Panel will be held on Thursday, April 30, 2020, from 1:00 p.m. to 5:00 p.m. (Eastern Time) and the public teleconference of the Chartered SAB will be held on Wednesday, May 20, 2020, from 1:00 p.m. to 5:00 p.m. (Eastern Time).

ADDRESSES: The teleconferences will be conducted by telephone only.

FOR FURTHER INFORMATION CONTACT: Any member of the public who wants further information concerning this notice may contact Dr. Zaida Figueroa, Designated Federal Officer (DFO), via telephone/voice mail (202) 566-2643, or email at figueroa.zaida@epa.gov. General information about the SAB, as well as any updates concerning the meetings announced in this notice can be found on the SAB website at http://www.epa.gov/sab.

SUPPLEMENTARY INFORMATION:

Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C., App. 2. The SAB anticipates that the scope and scale of COVID-19 Pandemic will lead EPA Program Offices to request advice on an array of scientific and technical issues. Rapid advice from nationally recognized scientists and public health experts will assist the Agency in developing and implementing timely and scientifically appropriate responses to the COVID-19 Pandemic.

To expedite the development of scientific advice, pursuant to FACA and EPA policy, notice is hereby given that the SAB will convene a panel of experts drawn from the Chartered SAB, the SAB CAAC and the SAB DWC to provide rapid advice on scientific and technical issues of the COVID-19 Pandemic. Panel members will be invited to serve based on their scientific and technical expertise, knowledge, and experience; availability and willingness to serve; and absence of financial conflicts of interest. The panel will provide advice on opportunities for current and future EPA research activities that might enhance and inform EPA's current and any future responses to SARS-CoV-2.

The SAB will hold a public teleconference on Thursday, April 30, 2020, to convene the SAB COVID-19 Review Panel for deliberations. The Chartered SAB will then hold a teleconference on May 20, 2020 to review the SAB COVID-19 Review Panel's draft report.

Due to the exceptional circumstances of the ongoing COVID-19 Pandemic and the need to act quickly, the SAB is providing less than 15 days' notice in the Federal Register as there is insufficient time prior to the advisory committee meeting as required by the final rule on Federal Advisory Committee Management codified in 41 CFR 102-3.150(b). Information on the panel's peer review activities will be posted on the SAB website at http://epa.gov/sab as they become available.

Availability of Meeting Materials: All meeting materials, including the agenda will be available on the SAB web page at http://epa.gov/sab.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comment should follow the instruction below to submit comments.

Written Statements: Given the need for expedited advice on the COVID-19 Pandemic scientific related issues, written statements will be accepted throughout the advisory process. However, for timely consideration by SAB members, statements should be received in the SAB Staff Office by April 26, 2020, for consideration by the SAB COVID-19 Review Panel at the public teleconference on April 30, 2020. Written statements should be received in the SAB Staff Office by May 15, 2020, for consideration by the Chartered SAB as part of their quality review of the panel's work at the public teleconference on May 20, 2020. Written statements should be supplied to the DFO at the contact information above via email. The SAB Staff Office does not publish documents with signatures on its website. Members of the public should be aware that their personal contact information, if included in any written comments, may be posted to the SAB website. Copyrighted material will not be posted without explicit permission of the copyright holder.

Accessibility: For information on access or services for individuals with disabilities, please contact the DFO, at the contact information noted above, preferably at least five days prior to the meeting, to give the EPA as much time as possible to process your request.

Dated: April 17, 2020.
V Khanna Johnston,
Deputy Director, EPA Science Advisory Board Staff Office.

[FR Doc. 2020-08586 Filed 4-22-20; 8:45 am]

BILLING CODE 6560-50-P